DEPARTMENT OF HOMELAND SECURITY

Coast Guard

33 CFR Part 100

[Docket No. USCG-2021-0305]

RIN 1625-AA08

Special Local Regulations; Patuxent River, Solomons, MD

AGENCY: Coast Guard, DHS.

ACTION: Notice of proposed rulemaking; withdrawal.

SUMMARY: The Coast Guard is withdrawing its proposed rule to establish temporary special local regulations for certain waters of the Patuxent River. The rulemaking was initiated to establish a special local regulation during the “Chesapeake Challenge/Solomons Offshore Grand Prix,” a marine event to be held on certain waters of the Patuxent River, between the Governor Thomas Johnson (MD Route 4) Bridge and the West Patuxent Basin at U.S. Naval Air Station Patuxent River, MD. The proposed rule is being withdrawn because it is no longer necessary. The event sponsor has cancelled the power boat racing event.

DATES: The Coast Guard is withdrawing the proposed rule for the event scheduled on August 29, 2021, from 9 a.m. to 5 p.m. published on June 7, 2021 (86 FR 30224) as of July 30, 2021.

ADDRESSES: To view the docket for this withdrawn rulemaking, go to https://www.regulations.gov, type USCG-2021-0305 in the “SEARCH” box and click “SEARCH.” Click on Open Docket Folder on the line associated with this rule.

FOR FURTHER INFORMATION CONTACT: If you have questions about this notice, call or email Mr. Ron Houck, Waterways Management Division, U.S. Coast Guard Sector Maryland-National Capital Region; telephone 410-576- 2674, email Ronald.L.Houck@uscg.mil.

SUPPLEMENTARY INFORMATION:

Background Information and Regulatory History

On June 7, 2021, we published an NPRM entitled “Special Local Regulations; Patuxent River, Solomons, MD” in the Federal Register (86 FR 30224). The proposed rulemaking concerned the Coast Guard's establishment of a temporary special local regulation for certain navigable waters of the Patuxent River, effective from 8 a.m. through 6 p.m. on August 29, 2021. This action was necessary to provide for the safety of life on these waters during a power boat racing event. This rulemaking would have prohibited persons and vessels from entering the regulated area unless authorized by the Captain of the Port Maryland-National Capital Region or the Coast Guard Event Patrol Commander.

Withdrawal

The proposed rule is being withdrawn due to the regulated area no longer being necessary following a cancellation of the power boat racing event by the event sponsor.

Authority

We issue this notice of withdrawal under the authority of 46 U.S.C. 70041.

Dated: July 26, 2021.
David E. O'Connell,
Captain, U.S. Coast Guard, Captain of the Port Maryland-National Capital Region.

[FR Doc. 2021-16259 Filed 7-29-21; 8:45 am]

BILLING CODE 9110-04-P